DEPARTMENT OF HEALTH AND HUMAN SERVICES

Agency for Healthcare Research and Quality

Notice of Meetings

AGENCY: Agency for Healthcare Research and Quality (AHRQ), HHS.

ACTION: Notice of Five AHRQ subcommittee meetings.

SUMMARY: The subcommittees listed below are part of AHRQ's Health Services Research Initial Review Group Committee. Grant applications are to be reviewed and discussed at these meetings. Each subcommittee meeting will commence in open session before closing to the public for the duration of the meeting.

DATES: See SUPPLEMENTARY INFORMATION for meeting dates of the individual subcommittees.

ADDRESSES: Bethesda North Marriott Hotel & Conference Center, 5701 Marinelli Road, Bethesda, Maryland 20852.

FOR FURTHER INFORMATION CONTACT: (to obtain a roster of members, agenda or minutes of the non-confidential portions of the meetings.) Heather Phelps, Acting Committee Management Officer, Office of Extramural Research Education and Priority Populations, Agency for Healthcare Research and Quality (AHRQ), 5600 Fishers Lane, Rockville, Maryland 20857, Telephone (301) 427-1128.

SUPPLEMENTARY INFORMATION: In accordance with section 10 (a)(2) of the Federal Advisory Committee Act (5 U.S.C. App. 2), AHRQ announces meetings of the above-listed scientific peer review groups, which are subcommittees of AHRQ's Health Services Research Initial Review Group Committees. Each subcommittee meeting will commence in open session before closing to the public for the duration of the meeting. The subcommittee meetings will be closed to the public in accordance with the provisions set forth in 5 U.S.C. App. 2 section 10(d), 5 U.S.C. 552b(c)(4), and 5 U.S.C. 552b(c)(6). The grant applications and the discussions could disclose confidential trade secrets or commercial property such as patentable material, and personal information concerning individuals associated with the grant applications, the disclosure of which would constitute a clearly unwarranted invasion of personal privacy.

The meeting dates for the subcommittees are:

1. Healthcare Effectiveness and Outcomes Research (HEOR)

Date: October 9th, 2019 (Open from 8:00 a.m. to 8:30 a.m. on October 9th and closed for remainder of the meeting)

2. Health System and Value Research (HSVR)

Date: October 16th, 2019 (Open from 8:00 a.m. to 8:30 a.m. on October 16th and closed for remainder of the meeting)

3. Health Care Research and Training (HCRT)

Date: October 17-18th, 2019 (Open from 8:00 a.m. to 8:30 a.m. on October 17th and closed for remainder of the meeting)

4. Healthcare Safety and Quality Improvement Research (HSQR)

Date: October 10-11th, 2019 (Open from 7:30 a.m. to 8:00 a.m. on October 10th and closed for remainder of the meeting)

5. Healthcare Information Technology Research (HITR)

Date: October 24th, 2019 (Open from 8:00 a.m. to 8:30 a.m. on October 24th and closed for remainder of the meeting)

Agenda items for these meetings are subject to change as priorities dictate.

Virginia L. Mackay-Smith,
Associate Director, AHRQ.

[FR Doc. 2019-18928 Filed 8-30-19; 8:45 am]

BILLING CODE 4160-90-P